DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 14, 2020. Address written comments to Statutory Import Programs Staff, Room 3720, U.S. Department of Commerce, Washington, DC 20230. Applications may be examined between 8:30 a.m. and 5:00 p.m. at the U.S. Department of Commerce in Room 3720.

Docket Number: 20-002. Applicant: Regents of the University of Minnesota, Center for Magnetic Resonance Research, 2021 6th Street SE, Minneapolis, MN 55455. Instrument: Three-photon far infra-red laser. Manufacturer: Class 5 Photonics, Germany. Intended Use: The instrument will be used to study the fine structure which means on the scale of sub-microns (less than 1/1000th of 1 mm resolution) and function of cells and blood vessels in the living brains of mice. Examination of the fine structure is critical to understanding cellular communication and blood flow regulation in the brain. Laboratory mice are anesthetized, the skull is exposed, and 1,300 nm laser light is passed into the brain so that cells and blood vessels can be visualized with a microscope via three-photon fluorescence microscopy. Mice are now the most common research subjects used in biological and neuroscience research. Justification for Duty-Free Entry: There are no instruments of the same general category manufactured in the United States. Application accepted by Commissioner of Customs: January 13, 2020.

Dated: March 19, 2020.
Gregory W. Campbell,
Director, Subsidies Enforcement, Enforcement and Compliance.

[FR Doc. 2020-06216 Filed 3-24-20; 8:45 am]

BILLING CODE 3510-DS-P